FEDERAL DEPOSIT INSURANCE CORPORATION

[OMB No. 3064-0028; -0109; -0124; -0134; -0162; -0179; -0195]

Agency Information Collection Activities: Proposed Collection Renewal; Comment Request

AGENCY: Federal Deposit Insurance Corporation (FDIC).

ACTION: Notice and request for comment.

SUMMARY: The FDIC, as part of its obligations under the Paperwork Reduction Act of 1995, invites the general public and other Federal agencies to take this opportunity to comment on the request to renew the existing information collections described below (OMB Control No. 3064-0028, -0109, -0124, -0134, -0162, -0179 and -0195). The notices of proposed renewal for these information collections were previously published in the Federal Register on August 21, 2024, and September 9, 2024, allowing for a 60-day comment period.

DATES: Comments must be submitted on or before November 20, 2024.

ADDRESSES: Interested parties are invited to submit written comments to the FDIC by any of the following methods:

• Agency Website: https://www.fdic.gov/resources/regulations/federal-register-publications/.

• Email: comments@fdic.gov. Include the name and number of the collection in the subject line of the message.

• Mail: Manny Cabeza (202-898-3767), Regulatory Counsel, MB-3128, Federal Deposit Insurance Corporation, 550 17th Street NW, Washington, DC 20429.

• Hand Delivery: Comments may be hand-delivered to the guard station at the rear of the 17th Street NW building (located on F Street NW), on business days between 7:00 a.m. and 5:00 p.m.

Written comments and recommendations for the proposed information collection should be sent within 30 days of publication of this notice to www.reginfo.gov/public/do/PRAMain. Find this particular information collection by selecting “Currently under 30-day Review—Open for Public Comments” or by using the search function.

FOR FURTHER INFORMATION CONTACT: Manny Cabeza, Regulatory Counsel, 202-898-3767, mcabeza@fdic.gov, MB-3128, Federal Deposit Insurance Corporation, 550 17th Street NW, Washington, DC 20429.

SUPPLEMENTARY INFORMATION:

Proposal to renew the following currently approved collection of information:

1. Title: Recordkeeping and Confirmation Requirements for Securities Transactions.

OMB Number: 3064-0028.

Form Number: None.

Affected Public: FDIC-Insured Institutions and Certain Employees of the FDIC-Insured Institutions.

Burden Estimate:

Summary of Estimated Annual Burden (OMB No. 3064-0028)
Information collection (IC) (obligation to respond) | Type of burden (frequency of response) | Number of respondents | Number of responses per respondent | Time per response (HH:MM) | Annual burden (hours)
1. Maintain Securities Trading Policies and Procedures, 12 CFR 344.8 (Mandatory) | Recordkeeping (On Occasion) | 632 | 1 | 1:00 | 632
2. Officer/Employee Filing of Reports of Personal Securities Trading, 12 CFR 344.9 (Mandatory) | Third Party Disclosure (On Occasion) | 1,896 | 4 | 1:00 | 7,584
Total Annual Burden (Hours) |  |  |  |  | 8,216
Source: FDIC.

General Description of Collection: The collection of information requirements is contained in 12 CFR part 344. The purpose of the regulation is to ensure that purchasers of securities in transactions affected by insured State nonmember banks are provided with adequate records concerning the transactions. The regulation is also designed to ensure that insured State nonmember banks maintain adequate records and controls with respect to the securities transactions they effect. Finally, this regulation requires officers and employees of FDIC-supervised institutions to report to the FDIC-supervised institution certain personal securities trading activity. There is no change in the methodology or substance of this information collection. The decrease in total estimated annual burden from 8,583 hours in 2021 to 8,216 hours currently is due to a decrease in estimated number of respondents.

2. Title: Notice of Branch Closure.

OMB Number: 3064-0109.

Form Number: None.

Affected Public: FDIC-insured depository institutions.

Burden Estimate:

Summary of Estimated Annual Burden (OMB No. 3064-0109)
Information collection (IC) (obligation to respond) | Type of burden (frequency of response) | Number of respondents | Number of responses per respondent | Time per response (HH:MM) | Annual burden (hours)
1. Notice of Branch Closure to FDIC, 12 U.S.C. 1831r-(a) (Mandatory) | Reporting (On Occasion) | 276 | 2.99 | 00:30 | 413
2. Notice of Branch Closure to Customers, 12 U.S.C. 1831r-(b) (Mandatory) | Disclosure (On Occasion) | 276 | 2.99 | 1:30 | 1,238
3. Adoption of Branch Closure Policy, 12 U.S.C. 1831r-1 (Mandatory) | Recordkeeping (Annual) | 18 | 1 | 08:00 | 144
Total Annual Burden (Hours) |  |  |  |  | 1,795
Source: FDIC.

General Description of Collection: Section 42 of the Federal Deposit Insurance Act mandates that an insured depository institution closing a branch notify its primary Federal regulator not later than 90 days prior to the closing. The statute also provides that a notice be posted on the premises of the branch for the 30-day period immediately prior to the closing and that the customers be notified in a mailing at least 90 days prior to the closing. Each insured depository institution that has one or more branches is required to adopt a written policy for branch closings. There is no change in the methodology or substance of this information collection. The increase in total estimated annual burden from 1,738 hours in 2021 to 1,795 hours currently is due to an increase in estimated number or respondents.

3. Title: Notice of Branch Closure.

OMB Number: 3064-0124.

Form Number: None.

Affected Public: Insured depository institutions.

Burden Estimate:

Summary of Estimated Annual Burden (OMB No. 3064-0124)
Information collection (IC) (obligation to respond) | Type of burden (frequency of response) | Number of respondents | Number of responses per respondent | Time per response (HH:MM) | Annual burden (hours)
Certification of Assumption of Deposit Liabilities 12 CFR 307.2 (Mandatory) | Reporting (On occasion) | 162 | 1 | 1:00 | 162
Notice to Depositors 12 CFR 307.3 (Mandatory) | Disclosure (On occasion) | 12 | 1 | 2:00 | 24
Total Annual Burden (Hours) | 186
Source: FDIC.

General Description of Collection: This information collection consists of two parts: (1) a certification that insured depository institutions provide the FDIC when all deposit liabilities from one insured depository institution are assumed from another insured depository institution, with the latter institution responsible for providing the certification; and (2) a notification that an insured depository institution provides to its depositors when it seeks to voluntarily terminate its insured status. The certification is necessary to implement the provisions of section 8(q) of the Federal Deposit Insurance Act, 12 U.S.C. 1818(q), regarding termination of the insured status of the transferring institution and termination of the separate deposit insurance coverage provided on deposit accounts assumed by the assuming institution. The depositor notification is required by section 8(a)(6) of the Federal Deposit Insurance Act, 12 U.S.C. 1818(a)(6). This provision ensures that the institution's depositors receive appropriate information regarding the institution's intent to terminate its insured status and that, prior to the termination of the institution's insured status, depositors receive appropriate information concerning Federal deposit insurance coverage of their accounts once the institution's insured status is terminated. There is no change in the methodology or substance of this information collection. The decrease in total estimated annual burden from 256 in 2021 to 186 currently is due to a change in the estimated number or respondents.

4. Title: Extension without change of a currently approved collection.

OMB Number: 3064-0134.

Form Number: 6422/04; 6422/11; 6422/15

Affected Public: Individuals, Households, Business or Financial Institutions.

Burden Estimate:

Summary of Estimated Annual Burden (OMB No. 3064-0134)
Information collection (IC) (obligation to respond) | Type of burden (frequency of response) | Number of respondents | Number of responses per respondent | Time per response (HH:MM) | Annual burden (hours)
1. Customer Assistance Form (6422/04) (Voluntary) | Reporting (On Occasion) | 8,566 | 1 | 00:15 | 2,142
2. Business Assistance Form (6422/11) (Voluntary) | Reporting (On Occasion) | 1,191 | 1 | 00:15 | 298
3. FDIC Deposit Insurance Form (6422/15) (Voluntary) | Reporting (On Occasion) | 1,465 | 1 | 00:15 | 366
Total Annual Burden (Hours) |  |  |  |  | 2,806
Source: FDIC.

General Description of Collection: This collection facilitates the collection of information from customers of financial institutions that have inquiries or complaints about service. Customers or businesses may document their complaints or inquiries to the FDIC using a letter or optional forms (Form 6422/04, Form 6422/11, Form 6422/15). The forms are used to facilitate online completion and submission of the complaints or inquiries and to shorten FDIC response times by making it easier to identify the nature of the complaint and to route the customer or business inquiry to the appropriate FDIC contact. There is no change in the methodology or substance of this information collection. The increase in total estimated annual burden from 1,468 in 2021 to 2,806 currently is due to an increase in the estimated number or respondents.

5. Title: Large-Bank Deposit Insurance Programs.

OMB Number: 3064-0162.

Form Number: None.

Affected Public: Insured depository institutions having at least $2 billion in deposits and at least either (a) 250,000 Deposit accounts; or (b) $20 billion in total assets, regardless of the number of deposit accounts (a “covered institution”).

Burden Estimate:

Summary of Estimated Annual Burden (OMB No. 3064-0162)
Information collection (IC) (obligation to respond) | Type of burden (frequency of response) | Number of respondents | Number of responses per respondent | Time per response (HH:MM) | Annual burden (hours)
1. Posting and removing provisional holds—Implementation—12 CFR 360.9(c)(1) and (2) (Mandatory) | Recordkeeping (One time) | 8 | 1 | 150:00 | 1,200
2. Providing standard data format for deposit account and customer information—Implementation—12 CFR 360.9(d)(1) (Mandatory) | Recordkeeping (One time) | 8 | 1 | 110:00 | 880
3. Notification of identity of person responsible for producing standard data downloads—Implementation—12 CFR 360.9(c)(3) (Mandatory) | Reporting (One time) | 8 | 1 | 8:00 | 64
4. Provide deposit account and customer information in required standard format—Implementation—12 CFR 360.9(d)(3) (Mandatory) | Reporting (On Occasion) | 8 | 1 | 40:00 | 320
5. Request for exemption from provisional hold requirements—Implementation—12 CFR 360.9(c)(9) (Voluntary) | Reporting (On Occasion) | 1 | 1 | 20:00 | 20
6. Request for extension of compliance deadline—Implementation—12 CFR 360.9(e)(7) (Voluntary) | Reporting (On Occasion) | 1 | 1 | 20:00 | 20
7. Request for exemption—Implementation 12 CFR 360.9(f) (Voluntary) | Reporting (On Occasion) | 1 | 1 | 20:00 | 20
8. Notification of identity of person responsible for producing standard data downloads—Ongoing—12 CFR 360.9(c)(3) (Mandatory) | Reporting (Annual) | 123 | 1 | 8:00 | 984
9. Request for exemption from provisional hold requirements—Ongoing—12 CFR 360.9(c)(9) (Voluntary) | Reporting (On Occasion) | 1 | 1 | 20:00 | 20
10. Request for exemption—Ongoing—12 CFR 360.9(f) (Voluntary) | Reporting (On Occasion) | 1 | 1 | 20:00 | 20
11. Test compliance with 12 CFR 360.9 (c)-(d) pursuant to 12 CFR 360.9(h)—Ongoing—12 CFR 360.9 (h) (Mandatory) | Reporting (Annual) | 30 | 1 | 80:00 | 2,400
Total Annual Burden (Hours) |  |  |  |  | 5,948
Source: FDIC.

General Description of Collection: Upon the failure of an FDIC-insured depository institution, the FDIC is required to pay insured deposits as soon as possible. To do so, the FDIC must be able to quickly determine the total insured amount for each depositor. To make this determination, the FDIC must ascertain the balances of all deposit accounts owned by the same depositor in the same ownership capacity at a failed institution as of the day of failure. The FDIC issued a regulation (12 CFR 360.9) to modernize the process of determining the insurance status of each depositor in the event of failure of a covered institution. The regulations enable operations of a large insured depository institution to continue functioning on the day following failure, support the FDIC's efforts to fulfill its legal mandates regarding the resolution of failed insured deposit institutions, and apply to the largest institutions only ($2 billion in domestic deposits or more). More specifically, the regulations require the largest insured depository institutions to adopt mechanisms that would, in the event of the institution's failure (1) provide the FDIC with standard deposit account and customer information, and (2) allow the FDIC to place and release holds on liability accounts, including deposits. There is no change in the methodology or substance of this information collection. The decrease in total estimated annual burden from 6,464 hours in 2021 to 5,948 hours currently is due to a decrease in estimated number of respondents.

6. Title: Assessment Rate Adjustment Guidelines for Large and Highly Complex Institutions.

OMB Number: 3064-0179.

Form Number: None.

Affected Public: Large and highly complex depository institutions.

Burden Estimate:

Summary of Estimated Annual Burden (OMB No. 3064-0179)
Information collection (IC) (obligation to respond) | Type of burden (frequency of response) | Number of respondents | Number of responses per respondent | Time per response (HH:MM) | Annual burden (hours)
1. Assessment Rate Adjustment Guidelines for Large and Highly Complex Institutions, 12 CFR 327 (Required to obtain or retain benefits) | Reporting (On Occasion) | 1 | 1 | 80:00 | 80
Total Annual Burden (Hours) |  |  |  |  | 80
Source: FDIC.

General Description of Collection: The FDIC's deposit insurance assessment authority is set forth in section 7 of the Federal Deposit Insurance Act, 12 U.S.C. 1817(b) and (c), and promulgated in regulations under 12 CFR part 327. These regulations also set out the process for making adjustments to the total score of these institutions used by the FDIC in making deposit insurance assessments. Depository institutions are permitted to make a written request to the FDIC for an assessment adjustment. An institution is able to request review of, or appeal, an upward adjustment, the magnitude of an upward adjustment, removal of a previously implemented downward adjustment, or an increase in a previously implemented upward adjustment through the FDIC's internal review process set forth at 12 CFR 327.4(c). An institution can similarly request review of, or appeal, a decision not to apply an adjustment following a request by the institution for an adjustment. An institution can submit its written request for an adjustment to the FDIC's Director of the Division of Insurance and Research in Washington, DC. In making such a request, the institution will provide support by including evidence of a material risk or risk mitigating factor that it believes was not adequately considered. There is no change in the methodology or substance of this information collection. The decrease in total estimated annual burden from 160 hours in 2021 to 80 hours currently is due to a decrease in estimated number or respondents.

7. Title: Minimum Requirements for Appraisal Management Companies.

OMB Number: 3064-0195.

Form Number: None.

Affected Public: Individuals or households; business or other for profit.

Burden Estimate:

Summary of Estimated Annual Burden (OMB No. 3064-0195)
Information collection (IC) (obligation to respond) | Type of burden (frequency of response) | Number of respondents | Number of responses per respondent | Time per response (HH:MM) | Annual burden (hours)
1. Written Notice of Appraiser Removal from Network or Panel, 12 CFR 323.10 (Mandatory) | Disclosure (On occasion) | 8,481 | 1 | 00:05 | 707
2. Develop and Maintain a State Licensing Program, 12 CFR 323.11(a) and (b) (Mandatory) | Recordkeeping (On occasion) | 1 | 1 | 40:00 | 40
3. AMC Disclosure Requirements (State-regulated AMCs), 12 CFR 323.12 (Mandatory) | Disclosure (On occasion) | 1,206 | 1 | 01:00 | 1,206
4. AMC Disclosure Requirements (Federally regulated AMCs), 12 CFR 323.13(c) (Mandatory) | Disclosure (On occasion) | 38 | 1 | 01:00 | 38
Total Annual Burden (Hours) |  |  |  |  | 1,991
Source: FDIC.

General Description of Collection: This information collection comprises recordkeeping and disclosure requirements under regulations issued by the (FDIC, jointly with the Office of the Comptroller of the Currency, the Board of Governors of the Federal Reserve System, the National Credit Union Administration, the Bureau of Consumer Financial Protection, and the Federal Home Finance Agency that implement the minimum requirements in section 1473 of the Dodd-Frank Wall Street Reform and Consumer Protection Act (Dodd-Frank Act) to be applied by States in the registration and supervision of appraisal management companies (AMCs). The regulations also implement the requirement in section 1473 of the Dodd-Frank Act for States to report to the Appraisal Subcommittee of the Federal Financial Institutions Examination Council the information required by the ASC to administer the new national registry of AMCs. The information collection requirements are established in 12 CFR part 323 of the FDIC's codified regulations. There is no change in the methodology or substance of this information collection. The decrease in total estimated annual burden from 2,457 in 2021 to 1,991 currently is due to a change in the estimated number or respondents.

Request for Comment

Comments are invited on (a) whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the collection of information on respondents, including through the use of automated collection techniques or other forms of information technology. All comments will become a matter of public record.

Federal Deposit Insurance Corporation.
Dated at Washington, DC, on October 15, 2024.
James P. Sheesley,
Assistant Executive Secretary.

[FR Doc. 2024-24256 Filed 10-18-24; 8:45 am]

BILLING CODE 6714-01-P